DEPARTMENT OF TRANSPORTATION

Federal Motor Carrier Safety Administration

[Docket No. FMCSA-2015-0055]

Qualification of Drivers; Exemption Applications; Vision

AGENCY: Federal Motor Carrier Safety Administration (FMCSA), DOT.

ACTION: Notice of applications for exemptions; request for comments.

SUMMARY: FMCSA announces receipt of applications from 45 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before August 24, 2015. All comments will be investigated by FMCSA. The exemptions will be issued the day after the comment period closes.

ADDRESSES: You may submit comments bearing the Federal Docket Management System (FDMS) Docket No. FMCSA-2015-0055 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 45 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Charles R. Airey

Mr. Airey, 56, has had retinal disease in his right eye since 1988. The visual acuity in his right eye is no light perception, and in his left eye, 20/20. Following an examination in 2015, his optometrist stated, “I feel that Mr. Airey has sufficient vision in his Left eye to safely operate a commercial vehicle.” Mr. Airey reported that he has driven straight trucks for seven years, accumulating 87,500 miles. He holds a Class AM CDL from Maryland. His driving record for the last 3 years shows no crashes and no convictions for moving violations in a CMV.

Harold D. Albrecht

Mr. Albrecht, 60, has aphakia and a retinal detachment in his left eye due to a traumatic incident in 1990. The visual acuity in his right eye is 20/15, and in his left eye, 20/60. Following an examination in 2015, his optometrist stated, “I find Mr [sic] Albrecht's vision sufficient to perform driving tasks required to operate a commercial vehicle.” Mr. Albrecht reported that he has driven straight trucks for 38 years, accumulating 190,000 miles, and tractor-trailer combinations for 15 years, accumulating 1,500 miles. He holds a Class A CDL from Illinois. His driving record for the last 3 years shows no crashes and no convictions for moving violations in a CMV.

Joseph W. Bahr, Jr.

Mr. Bahr, 55, has had amblyopia in his right eye since childhood. The visual acuity in his right eye is 20/70, and in his left eye, 20/20. Following an examination in 2015, his optometrist stated, “I certify that based on my medical opinion, Mr. Bahr has sufficient vision to perform the drivers tasks required to operate a commercial vehicle.” Mr. Bahr reported that he has driven straight trucks for 23 years, accumulating 874,000 miles. He holds a Class B CDL from New Jersey. His driving record for the last 3 years shows no crashes and no convictions for moving violations in a CMV.

Jerry A. Bordelon

Mr. Bordelon, 53, has had traumatic glaucoma with ocular hypertension in his right eye since 1981. The visual acuity in his right eye is counting fingers, and in his left eye, 20/20. Following an examination in 2014, his optometrist stated, “Because this patient's monocular status is long-standing and he reports a safe, uneventful driving history, I can recommend that he drive a commercial vehicle.” Mr. Bordelon reported that he has driven tractor-trailer combinations for 25 years, accumulating 3.72 million miles. He holds a Class A CDL from Louisiana. His driving record for the last 3 years shows no crashes and no convictions for moving violations in a CMV.

Stephen C. Brueggemann

Mr. Brueggemann, 55, has had amblyopia in his right eye since childhood. The visual acuity in his right eye is 20/200, and in his left eye, 20/20. Following an examination in 2015, his optometrist stated, “In my medical opinion, I believe Stephen Brueggemann has sufficient vision to perform the driving tasks required to operate a commercial vehicle.” Mr. Brueggemann reported that he has driven straight trucks for 37 years, accumulating 259,000 miles, and tractor-trailer combinations for 36 years, accumulating 360,000 miles. He holds a Class DMA CDL from Kentucky. His driving record for the last 3 years shows no crashes and no convictions for moving violations in a CMV.

Dale E. Bunke

Mr. Bunke, 26, has had amblyopia in his left eye since childhood. The visual acuity in his right eye is 20/20, and in his left eye, 20/200. Following an examination in 2015, his optometrist stated, “In my opinion Mr. Bunke has sufficient vision to operate a commercial vehicle.” Mr. Bunke reported that he has driven straight trucks for two years, accumulating 120,000 miles, and tractor-trailer combinations for one year, accumulating 3,000 miles. He holds a Class A CDL from Idaho. His driving record for the last 3 years shows no crashes and no convictions for moving violations in a CMV.

James E. Byrnes

Mr. Byrnes, 28, has had amblyopia in his right eye since childhood. The visual acuity in his right eye is 20/60, and in his left eye, 20/20. Following an examination in 2015, his optometrist stated, “I feel he is very safe to continue driving due to longstanding nature of refractive amblyopia and excellent vision in his left eye. I feel he is more than capable of driving a commercial vehicle as he has in the past.” Mr. Byrnes reported that he has driven tractor-trailer combinations for two years, accumulating 203,000 miles. He holds a Class A CDL from Missouri. His driving record for the last 3 years shows no crashes and no convictions for moving violations in a CMV.

Larry O. Cheek

Mr. Cheek, 65, has complete loss of vision in his left eye due to a traumatic incident in 1986. The visual acuity in his right eye is 20/15, and in his left eye, no light perception. Following an examination in 2014, his optometrist stated, “Mr. Cheek is competent, visually to operate commercial vehicles.” Mr. Cheek reported that he has driven tractor-trailer combinations for 11 years, accumulating 792,000 miles. He holds a Class A CDL from California. His driving record for the last 3 years shows no crashes and no convictions for moving violations in a CMV.

Louise D. Curtis

Ms. Curtis, 65, has had retinal scarring in her left eye since 1995. The visual acuity in her right eye is 20/20, and in her left eye, 20/200. Following an examination in 2015, her optometrist stated, “It is my opinion that Mr. Curtis has sufficient vision to operate a commercial vehicle.” Ms. Curtis reported that he has driven straight trucks for nine years, accumulating 45,000 miles. She holds a Class AB CDL from Florida. Her driving record for the last 3 years shows no crashes and no convictions for moving violations in a CMV.

Marvin P. Cusey

Mr. Cusey, 71, has had macular degeneration in his right eye since 2010. The visual acuity in his right eye is 20/80, and in his left eye, 20/20. Following an examination in 2015, his optometrist stated, “In my medical opinion, I feel that Marvin Cusey does have sufficient vision to safely perform the driving tasks required to operate a commercial vehicle.” Mr. Cusey reported that he has driven tractor-trailer combinations for 50 years, accumulating 4.25 million miles. He holds a Class A CDL from Minnesota. His driving record for the last 3 years shows no crashes and no convictions for moving violations in a CMV.

Bradford W. Davis

Mr. Davis, 64, has had retinal scarring in his right eye since 1980. The visual acuity in his right eye is 20/150, and in his left eye, 20/20. Following an examination in 2015, his optometrist stated, “It is my opinion that he has sufficient vision to perform the driving tasks to operate a commercial vehicle.” Mr. Davis reported that he has driven tractor-trailer combinations for one year, accumulating 50,000 miles, and buses for 35 years, accumulating 262,500 miles. He holds a Class A CDL from Kansas. His driving record for the last 3 years shows no crashes and no convictions for moving violations in a CMV.

Roy H. Degner

Mr. Degner, 46, has a prosthetic left eye due to a traumatic incident in childhood. The visual acuity in his right eye is 20/20, and in his left eye, no light perception. Following an examination in 2015, his optometrist stated, “In my medical opinion, his vision should allow him to perform the tasks required in operating a commercial vehicle.” Mr. Degner reported that he has driven straight trucks for six years, accumulating 30,000 miles. He holds a Class A CDL from Iowa. His driving record for the last 3 years shows no crashes and no convictions for moving violations in a CMV.

Chris DeJong

Mr. DeJong, 56, has a prosthetic right eye due to a traumatic incident in childhood. The visual acuity in his right eye is no light perception, and in his left eye, 20/15. Following an examination in 2015, his optometrist stated, “Mr. DeJong has been driving with a CDL, accident free for 17 years I feel his vision is sufficient to continue operating a commercial vehicle.” Mr. DeJong reported that he has driven straight trucks for 17 years, accumulating 255,000 miles, and tractor-trailer combinations for one year, accumulating 10,000 miles. He holds a Class A CDL from New Mexico. His driving record for the last 3 years shows no crashes and no convictions for moving violations in a CMV.

Jonathan G. Estabrook

Mr. Estabrook, 72, has had amblyopia in his left eye since birth. The visual acuity in his right eye is 20/20, and in his left eye, 20/60. Following an examination in 2015, his ophthalmologist stated, “Mr. Estabrook has sufficient vision to perform the driving tasks required to operate a commercial vehicle.” Mr. Estabrook reported that he has driven tractor-trailer combinations for 36 years, accumulating 2.81 million miles. He holds a Class A CDL from Massachusetts. His driving record for the last 3 years shows no crashes and no convictions for moving violations in a CMV.

Robert J. Falanga

Mr. Falanga, 45, has had amblyopia in his right eye since birth due to a cataract. The visual acuity in his right eye is 20/200, and in his left eye, 20/15. Following an examination in 2015, his optometrist stated, “At this time, it is in my opinion that Mr. Falanga has sufficient vision to perform the driving tasks that are required to operate a commercial vehicle.” Mr. Falanga reported that he has driven tractor-trailer combinations for 19 years, accumulating 988,000 miles. He holds a Class A CDL from Florida. His driving record for the last 3 years shows no crashes and no convictions for moving violations in a CMV.

Elhadji M. Faye

Mr. Faye, 40, has had amblyopia in his left eye since childhood. The visual acuity in his right eye is 20/20, and in his left eye, 20/200. Following an examination in 2015, his ophthalmologist stated, “In my medical opinion, Mr. Faye has sufficient vision to drive a commercial vehicle.” Mr. Faye reported that he has driven straight trucks for 22 years, accumulating 52,800 miles. He holds a Class B CDL from California. His driving record for the last 3 years shows no crashes and no convictions for moving violations in a CMV.

Donald A. Hall

Mr. Hall, 53, has aphakia, retinal damage, and complete loss of vision in his right eye due to a traumatic incident in 1977. The visual acuity in his right eye is hand motion, and in his left eye, 20/20. Following an examination in 2015, his optometrist stated, “Due to his good peripheral vision and well developed monocular depth perception, he is visually fit to drive a commercial vehicle.” Mr. Hall reported that he has driven straight trucks for three years, accumulating 135,000 miles. He holds an operator's license from North Carolina. His driving record for the last 3 years shows no crashes and no convictions for moving violations in a CMV.

Willard D. Hall

Mr. Hall, 48, has had amblyopia in his left eye since childhood. The visual acuity in his right eye is 20/20, and in his left eye, 20/300. Following an examination in 2014, his ophthalmologist stated, “He adjusted to this problem in childhood and is visually capable of driving any vehicle, in my opinion, and should be allowed a Class A license.” Mr. Hall reported that he has driven straight trucks for 14 years, accumulating 210,000 miles. He holds a Class A CDL from California. His driving record for the last 3 years shows no crashes and no convictions for moving violations in a CMV.

Refugio Haro

Mr. Haro, 56, has had refractive in his right eye since childhood. The visual acuity in his right eye is 20/60, and in his left eye, 20/20. Following an examination in 2015, his ophthalmologist stated, “In my medical opinion and he experience with commercial driving, I feel that he sufficient vision to perform the driving tasks required to operate a commercial vehicle as long as he is wearing his correction and the vehicle he is driving has both side mirrors.” Mr. Haro reported that he has driven straight trucks for 19 years, accumulating 361,000 miles. He holds a Class B CDL from Illinois. His driving record for the last 3 years shows no crashes and no convictions for moving violations in a CMV.

Kevin L. Harrison

Mr. Harrison, 48, has had complete loss of vision in his right eye since 1999 due to ocular sarcadosis. The visual acuity in his right eye is no light perception, and in his left eye, 20/20. Following an examination in 2015, his ophthalmologist stated, “In my professional opinion Mr. Kevin Harrison is able to continue driving as . . . commercial driver as he has been doing for the past 18 years. He is able to drive with his left eye, as long as he has correction.” Mr. Harrison reported that he has driven straight trucks for 18 years, accumulating 140,400 miles. He holds an operator's license from Tennessee. His driving record for the last 3 years shows no crashes and no convictions for moving violations in a CMV.

Timothy N. Hollenbeck

Mr. Hollenbeck, 39, has a central retinal scar in his right eye due to a traumatic incident in childhood. The visual acuity in his right eye is 20/400, and in his left eye, 20/20. Following an examination in 2015, his optometrist stated, “In my medical opinion, Mr. Hollenbeck has sufficient vision to perform driving tasks required to operate a commercial vehicle.” Mr. Hollenbeck reported that he has driven straight trucks for 24 years, accumulating 240,000 miles, and tractor-trailer combinations for 10 years, accumulating 15,000 miles. He holds a Class A CDL from Oregon. His driving record for the last 3 years shows no crashes and no convictions for moving violations in a CMV.

Elmer G. Isenhart, Jr.

Mr. Isenhart, 55, has had refractive amblyopia in his right eye since birth. The visual acuity in his right eye is 20/400, and in his left eye, 20/25. Following an examination in 2014, his optometrist stated, “Given the long-standing congenital nature of Mr. Isenhart's amblyopia, I believe that he has sufficient vision, adaptation to and knowledge of his visual impairment to operate a commercial vehicle.” Mr. Isenhart reported that he has driven straight trucks for 36 years, accumulating 10.89 million miles. He holds a Class B CDL from Ohio. His driving record for the last 3 years shows no crashes and no convictions for moving violations in a CMV.

Abdullah T. Khalil

Mr. Khalil, 64, has had amblyopia in his left eye since birth. The visual acuity in his right eye is 20/25, and in his left eye, 20/600. Following an examination in 2014, his optometrist stated, “Left Eye: Amblyopia . . . Please note patient is safe to drive a commercial vehicle according to your guidelines.” Mr. Khalil reported that he has driven straight trucks for three years, accumulating 360,000 miles, and tractor-trailer combinations for three years, accumulating 450,000 miles. He holds a Class A CDL from Virginia. His driving record for the last 3 years shows no crashes and no convictions for moving violations in a CMV.

Don J. Labrum

Mr. Labrum, 51, has had complete loss of vision in his left eye since 1988 due to a traumatic optic nerve atrophy. The visual acuity in his right eye is 20/20, and in his left eye, counting fingers. Following an examination in 2015, his optometrist stated, “The vision and optic nerve atrophy are stable. I am confident that Mr. Labrum is capable of reliably and safely operating a commercial vehicle.” Mr. Labrum reported that he has driven straight trucks for 21 years, accumulating 436,800 miles. He holds a Class A CDL from Utah. His driving record for the last 3 years shows no crashes and no convictions for moving violations in a CMV.

Scott E. Landegent

Mr. Landegent, 50, has had amblyopia in his left eye since childhood. The visual acuity in his right eye is 20/20, and in his left eye, 20/100. Following an examination in 2014, his optometrist stated, “In my opinion, Scott's vision is more than sufficient to perform the tasks related to commercial vehicle operation.” Mr. Landegent reported that he has driven straight trucks for six years, accumulating 240,000 miles. He holds an operator's license from South Dakota. His driving record for the last 3 years shows one crash, for which he was not cited and to which he did not contribute, and no convictions for a moving violation in a CMV.

Steven D. Leonard

Mr. Leonard, 43, has had amblyopia in his left eye since childhood. The visual acuity in his right eye is 20/20, and in his left eye, 20/70. Following an examination in 2015, his optometrist stated, “Based off of the visual requirements necessary to obtain a commercial vehicle license, it is my opinion that Mr. Leonard be able to operate a commercial vehicle if a restriction is applied.” Mr. Leonard reported that he has driven straight trucks for six years, accumulating 105,300 miles. He holds an operator's license from Maryland. His driving record for the last 3 years shows no crashes and no convictions for moving violations in a CMV.

Bruce A. Lloyd

Mr. Lloyd, 60, has had central vision loss in his left eye since 2011 due to macular degeneration. The visual acuity in his right eye is 20/20, and in his left eye, 20/400. Following an examination in 2015, his ophthalmologist stated, “Please give him every consideration in allowing him this medical waiver. Mr. Lloyd has had this condition since 2011 and he has sufficient vision to perform his job duties.” Mr. Lloyd reported that he has driven straight trucks for 35 years, accumulating 525,000 miles, and tractor-trailer combinations for 30 years, accumulating 180,000 miles. He holds a Class AM CDL from Massachusetts. His driving record for the last 3 years shows no crashes and no convictions for moving violations in a CMV.

Duane S. Lozinski

Mr. Lozinski, 44, has had a retinal vein occlusion resulting in superior and temporal left quadronaopsia visual field defect in his left eye since 1997. The visual acuity in his right eye is 20/20, and in his left eye, counting fingers. Following an examination in 2015, his optometrist stated, “In my professional opinion patient is able to operate a commercial vehicle with his current visual acuity and field of vision.” Mr. Lozinski reported that he has driven straight trucks for two years, accumulating 4,000 miles, and tractor-trailer combinations for 2 years, accumulating 140,000 miles. He holds a Class A CDL from Iowa. His driving record for the last 3 years shows no crashes and no convictions for moving violations in a CMV.

Rob A. Matthews, Jr.

Mr. Matthews, 69, has complete loss of vision in his right eye due to a traumatic incident in 1989. The visual acuity in his right eye is no light perception, and in his left eye, 20/20. Following an examination in 2014, his optometrist stated, “Over the past 25 years Mr. Matthews seems to have adapted well to moncularity. For this reason, if the Federal Government has no binocularity requirements that would preclude a monocular applicant from holding a commercial driver's license, I see no reason that Mr. Matthews should not qualify for such.” Mr. Matthews reported that he has driven straight trucks for 50 years, accumulating 250,000 miles. He holds an operator's license from South Carolina. His driving record for the last 3 years shows no crashes and no convictions for moving violations in a CMV.

Keith W. McNabb

Mr. McNabb, 25, has had amblyopia in his left eye since birth. The visual acuity in his right eye is 20/15, and in his left eye, 20/200. Following an examination in 2015, his optometrist stated, “I feel that his vision is stable. Please allow him his visual exemption as I believe he is as safe as any other commercial truck driver on the highway.” Mr. McNabb reported that he has driven straight trucks for five years, accumulating 5,000 miles, and tractor-trailer combinations for three years, accumulating 15,000 miles. He holds a Class A CDL from Idaho. His driving record for the last 3 years shows no crashes and no convictions for moving violations in a CMV.

Ronald W. Neujahr

Mr. Neujahr, 68, has had ocular nerve damage in his right eye since birth. The visual acuity in his right eye is no light perception, and in his left eye, 20/20. Following an examination in 2015, his optometrist stated, “In my opinion, Mr. Neujahr has sufficient vision to perform all driving tasks required to operate a commercial vehicle.” Mr. Neujahr reported that he has driven tractor-trailer combinations for 15 years, accumulating 135,000 miles. He holds a Class A CDL from Kansas. His driving record for the last 3 years shows no crashes and no convictions for moving violations in a CMV.

Frank L. Novich Jr.

Mr. Novich, 43, has optic atrophy in his left eye due to a traumatic incident in childhood. The visual acuity in his right eye is 20/15, and in his left eye, 20/400. Following an examination in 2015, his ophthalmologist stated, “In my medical opinion, I feel this patient has sufficient vision to perform the driving tasks required to operate a commercial vehicle.” Mr. Novich reported that he has driven straight trucks for 10 years, accumulating 200,000 miles, and tractor-trailer combinations for eight years, accumulating 240,000 miles. He holds a Class A CDL from Missouri. His driving record for the last 3 years shows no crashes and no convictions for moving violations in a CMV.

Russell Nutter

Mr. Nutter, 44, has complete loss of vision in his right eye due to a traumatic incident in 1992. The visual acuity in his right eye is no light perception, and in his left eye, 20/20. Following an examination in 2014, his ophthalmologist stated, “Based on my exam today, he should have sufficient vision to be able to drive a commercial vehicle.” Mr. Nutter reported that he has driven tractor-trailer combinations for four years, accumulating 360,000 miles. He holds a Class A CDL from Ohio. His driving record for the last 3 years shows one crash, for which he was not cited and to which he did not contribute, and no convictions for moving violations in a CMV.

Lonnie D. Prejean

Mr. Prejean, 57, has had amblyopia in his left eye since childhood. The visual acuity in his right eye is 20/30, and in his left eye, 20/50. Following an examination in 2015, his optometrist stated, “In my professional opinion, Lonnie Prejean has sufficient vision to perform the driving tasks required to operate a commercial vehicle.” Mr. Prejean reported that he has driven tractor-trailer combinations for 30 years, accumulating 1.92 million miles. He holds a Class AM CDL from Texas. His driving record for the last 3 years shows no crashes and no convictions for moving violations in a CMV.

Robert C. Reid

Mr. Reid, 46, has had amblyopia in his right eye since birth. The visual acuity in his right eye is 20/400, and in his left eye, 20/20. Following an examination in 2014, his optometrist stated, “In my medical opinion, Robert Reid has sufficient vision to perform the driving tasks required to operate a commercial vehicle.” Mr. Reid reported that he has driven straight trucks for 15 years, accumulating 720,000 miles. He holds a Class DA CDL from Kentucky. His driving record for the last 3 years shows no crashes and no convictions for moving violations in a CMV.

Thomas E. Riley

Mr. Riley, 53, has had macular edema, central retinal vein occlusion, rubeosis iridis, ocular hypertension, Coat's disease, and pseudophakia in his right eye since 2010. The visual acuity in his right eye is light perception, and in his left eye, 20/20. Following an examination in 2015, his ophthalmologist stated, “This is important since he is stable enough and has adequate visual function to qualify for a commercial driver's license.” Mr. Riley reported that he has driven straight trucks for 35 years, accumulating 1.27 million miles, and tractor-trailer combinations for 24 years, accumulating 1.87 million miles. He holds a Class A CDL from New Jersey. His driving record for the last 3 years shows no crashes and no convictions for moving violations in a CMV.

Danilo A. Rivera

Mr. Rivera, 34, has had a chorioretinal scar in his left eye since birth. The visual acuity in his right eye is 20/20, and in his left eye, 20/400. Following an examination in 2014, his ophthalmologist stated, “This patient is able to operate a commercial vehicle based on current visual acuity.” Mr. Rivera reported that he has driven straight trucks for two years, accumulating 80,000 miles, and tractor-trailer combinations for five years, accumulating 600,000 miles. He holds a Class A CDL from Maryland. His driving record for the last 3 years shows no crashes and no convictions for moving violations in a CMV.

Steven L. Roberts

Mr. Roberts, 50, has complete loss of vision in his left eye due to a traumatic incident in childhood. The visual acuity in his right eye is 20/20, and in his left eye, no light perception. Following an examination in 2015, his optometrist stated, “Based on my findings of eye examination January 15, 2015, Mr. Steven Roberts displayed sufficient visual ability to operate a commercial vehicle.” Mr. Roberts reported that he has driven straight trucks for 15 years, accumulating 117,000 miles. He holds an operator's license from Arkansas. His driving record for the last 3 years shows no crashes and no convictions for moving violations in a CMV.

John B. Stiltner

Mr. Stiltner, 33, has had large optic nerve coloboma in his right eye since birth. The visual acuity in his right eye is counting fingers, and in his left eye, 20/20. Following an examination in 2015, his optometrist stated, “In my professional opinion, he has sufficient vision to perform the driving tasks required to operate a commercial vehicle.” Mr. Stiltner reported that he has driven straight trucks for five years, accumulating 250,000 miles, and tractor-trailer combinations for five years, accumulating 325,000 miles. He holds a Class DA CDL from Kentucky. His driving record for the last 3 years shows no crashes and no convictions for moving violations in a CMV.

James M. Stroupe

Mr. Stroupe, 60, has had amblyopia in his left eye since childhood. The visual acuity in his right eye is 20/20, and in his left eye, 20/50. Following an examination in 2015, his optometrist stated, “After successfully operating a commercial vehicle for three plus decades and without any significant change in his visual or eye health status, I feel confident in recommending that he be allowed to continue his same occupation of driving a commercial vehicle.” Mr. Stroupe reported that he has driven straight trucks for 41 years, accumulating 5.13 million miles, and tractor-trailer combinations for 12 years, accumulating 1.5 million miles. He holds a Class A CDL from Virginia. His driving record for the last 3 years shows no crashes and one conviction for a moving violation in a CMV; he exceeded the speed limit by 15 mph.

Steven W. Stull

Mr. Stull, 60, has had a prosthetic right eye since 2002. The visual acuity in his right eye is no light perception, and in his left eye, 20/15. Following an examination in 2015, his optometrist stated, “In my opinion he has the vision abilities to operate a commercial vehicle.” Mr. Stull reported that he has driven tractor-trailer combinations for 12 years, accumulating 300,000 miles. He holds a Class AM CDL from Illinois. His driving record for the last 3 years shows no crashes and no convictions for moving violations in a CMV.

Dale R. Sweigart

Mr. Sweigart, 46, has corneal scarring in his right eye due to a traumatic incident in childhood. The visual acuity in his right eye is counting fingers, and in his left eye, 20/20. Following an examination in 2015, his optometrist stated, “Upon examining his cornea, I found he has significant scarring. This is the reason for this reduced acuity . . . He has been driving commercially for 20 years with no problems.” Mr. Sweigart reported that he has driven straight trucks for seven years, accumulating 490,000 miles, and tractor-trailer combinations for 13 years, accumulating 845,000 miles. He holds a Class A CDL from Pennsylvania. His driving record for the last 3 years shows no crashes and one conviction for a moving violation in a CMV; he failed to obey a traffic control device.

Rick R. Warner

Mr. Warner, 53, has no light perception in his left eye due to a traumatic incident in childhood. The visual acuity in his right eye is 20/20, and in his left eye, no light perception. Following an examination in 2015, his optometrist stated, “I believe that Mr. Warner should have sufficient vision to operate a commercial vehicle even though he has only one functional eye.” Mr. Warner reported that he has driven straight trucks for 35 years, accumulating 350,000 miles, and tractor-trailer combinations for 35 years, accumulating 350,000 miles. He holds a Class CA CDL from Michigan. His driving record for the last 3 years shows no crashes and no convictions for moving violations in a CMV.

Theodore White

Mr. White, 50, has complete loss of vision in his left eye due to a traumatic incident in childhood. The visual acuity in his right eye is 20/20, and in his left eye, no light perception. Following an examination in 2015, his ophthalmologist stated, “In my professional opinion, Mr. White has vision sufficient to drive a commercial vehicle without restriction.” Mr. White reported that he has driven straight trucks for 28.5 years, accumulating 30,800 miles. He holds a Class AM CDL from Pennsylvania. His driving record for the last 3 years shows no crashes and no convictions for moving violations in a CMV.

Larry L. Yow

Mr. Yow, 59, has had amblyopia in his right eye since childhood. The visual acuity in his right eye is 20/60, and in his left eye, 20/20. Following an examination in 2015, his ophthalmologist stated, “As his vision has not been precluding operation of a commercial motor vehicle, I do not expect if [sic] should cause any problems at this time.” Mr. Yow reported that he has driven tractor-trailer combinations for 15 years, accumulating 1.35 million miles. He holds a Class A CDL from North Carolina. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0055 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0055 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: July 17, 2015.
Larry W. Minor,
Associate Administrator for Policy.

[FR Doc. 2015-18161 Filed 7-23-15; 8:45 am]

BILLING CODE 4910-EX-P